DEPARTMENT OF COMMERCE

International Trade Administration

[A-570-848]

Freshwater Crawfish Tail Meat From the People's Republic of China; Rescission of Antidumping Duty Administrative Review in Part and Rescission of New Shipper Review; 2013-2014

AGENCY: Enforcement and Compliance, International Trade Administration, Department of Commerce.

SUMMARY: The Department of Commerce (the Department) is rescinding its administrative review in part and rescinding a new shipper review of the antidumping duty order on freshwater crawfish tail meat from the People's Republic of China (PRC) for the period September 1, 2013, through August 31, 2014.

DATES: Effective Date: April 29, 2015.

FOR FURTHER INFORMATION CONTACT: Yang Jin Chun or Minoo Hatten, AD/CVD Operations Office I, Enforcement and Compliance, International Trade Administration, U.S. Department of Commerce, 14th Street and Constitution Avenue NW., Washington, DC 20230; telephone: (202) 482-5760 and (202) 482-1690 respectively.

SUPPLEMENTARY INFORMATION:

Background

On September 2, 2014, we published a notice of opportunity to request an administrative review of the antidumping duty order on freshwater crawfish tail meat from the PRC for the period of review (POR) September 1, 2013, through August 31, 2014.¹ On October 30, 2014, in response to requests from the petitioner, the Crawfish Processors Alliance, and Chinese exporters of subject merchandise, China Kingdom (Beijing) Import & Export Co., Ltd. (China Kingdom), Deyan Aquatic Products and Food Co., Ltd. (Deyan Aquatic), Shanghai Ocean Flavor International Trading Co., Ltd. (Shanghai Ocean Flavor), and Xiping Opeck Food Co., Ltd. (Xiping Opeck), and in accordance with section 751(a) of the Tariff Act of 1930, as amended (the Act) and 19 CFR 351.221(c)(1)(i), we initiated an administrative review of the antidumping duty order on freshwater crawfish tail meat from the PRC with respect to four companies: China Kingdom; Deyan Aquatic; Shanghai Ocean Flavor; and Xiping Opeck.²

¹ See Antidumping or Countervailing Duty Order, Finding, or Suspended Investigation; Opportunity To Request Administrative Review, 79 FR 51958 (September 2, 2014).

² See Initiation of Antidumping and Countervailing Duty Administrative Reviews, 79 FR 64565 (October 30, 2014).

On October 31, 2014, in response to requests from Chinese producers and exporters of subject merchandise, Hubei Yuesheng Aquatic Products Co., Ltd., Weishan Hongda Aquatic Food Co., Ltd., and Wuhan Coland Aquatic Products and Food Co., Ltd. (Wuhan Coland), and in accordance with section 751(a)(2)(B) of the Act and 19 CFR 351.214 and 351.221(c)(1)(i), we initiated new shipper reviews of the antidumping duty order on freshwater crawfish tail meat from the PRC with respect to these three companies for the POR September 1, 2013, through August 31, 2014.³

³ See Freshwater Crawfish Tail Meat From the People's Republic of China: Initiation of Antidumping Duty New Shipper Reviews, 79 FR 64749 (October 31, 2014).

On November 21, 2014, the Department aligned the new shipper reviews of freshwater crawfish tail meat from the PRC with the concurrent administrative review of freshwater crawfish tail meat from the PRC.⁴ On December 16, 2014, the Department selected China Kingdom and Xiping Opeck for individual examination in this administrative review.⁵

⁴ See Memorandum to The File entitled “Alignment of New-Shipper Reviews of Freshwater Crawfish Tail Meat from the People's Republic of China with the concurrent Administrative Review of Freshwater Crawfish Tail Meat from the PRC” dated November 21, 2014.

⁵ See Memorandum to James Maeder, Senior Director, AD/CVD Operations, from Hermes Pinilla, International Trade Compliance Analyst, AD/CVD Operations, Office I entitled “Freshwater Crawfish Tail Meat from the PRC—Respondent Selection for the 2013-2014 Antidumping Duty Administrative Review” dated December 16, 2014.

On January 13, 2015, Xiping Opeck and Wuhan Coland withdrew their review requests.⁶ On January 29, 2015, the Department selected Deyan Aquatic as the additional mandatory respondent in this administrative review.⁷

⁶ See the letters of withdrawal of the review requests from Xiping Opeck and Wuhan Coland dated January 13, 2015.

⁷ See Memorandum to James Maeder, Senior Director, AD/CVD Operations, Office I from Hermes Pinilla, International Trade Compliance Analyst, AD/CVD Operations, Office I entitled “Freshwater Crawfish Tail Meat from the PRC—Selection of Additional Mandatory Respondent and Analysis of Voluntary Respondent Request” dated January 29, 2015.

Rescission of Administrative Review in Part and Rescission of New Shipper Review

Pursuant to 19 CFR 351.213(d)(1), the Department will rescind an administrative review, “in whole or in part, if a party that requested a review withdraws the request within 90 days of the date of publication of notice of initiation of the requested review.” Because Xiping Opeck and Wuhan Coland withdrew their review requests in a timely manner, and because no other party requested a review of these companies, we are partially rescinding the administrative review with respect to Xiping Opeck, and we are rescinding the new shipper review with respect to Wuhan Coland. This rescission is in accordance with 19 CFR 351.213(d)(1).

Assessment

The Department will instruct U.S. Customs and Border Protection (CBP) to assess antidumping duties on all appropriate entries. For Xiping Opeck and Wuhan Coland, for which the reviews are rescinded, antidumping duties shall be assessed at rates equal to the cash deposit of estimated antidumping duties required at the time of entry, or withdrawal from warehouse, for consumption, in accordance with 19 CFR 351.212(c)(1)(i). The Department intends to issue appropriate assessment instructions to CBP 15 days after publication of this notice.

Notification to Importers

This notice serves as a reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

Notification Regarding Administrative Protective Orders

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

This notice is issued and published in accordance with sections 751(a)(1) and 777(i)(1) of the Act and 19 CFR 351.213(d)(4).

Dated: April 22, 2015.
Christian Marsh,
Deputy Assistant Secretary for Antidumping and Countervailing Duty Operations.

[FR Doc. 2015-10046 Filed 4-28-15; 8:45 am]

BILLING CODE 3510-DS-P